DEPARTMENT OF HEALTH AND HUMAN SERVICES

Office of Global Affairs: Stakeholder Listening Session in Preparation for the 70th World Health Assembly

Time and Date: May 5, 2017, 1:30 p.m.-3:00 p.m. EST.

Place: Hubert H. Humphrey Building, Room 705A, 200 Independence Ave. SW., Washington, DC 20201.

Status: Open, but requiring RSVP to OGA.RSVP@hhs.gov by April 27, 2017.

Purpose: The U.S. Department of Health and Human Services (HHS) is charged with leading the U.S. delegation to the 70th World Health Assembly and will hold an informal Stakeholder Listening Session on Friday, May 5 from 1:30-3:00 p.m. in Conference Room 705A of the Hubert H. Humphrey Building, 200 Independence Ave. SW., Washington, DC 20201.

The Stakeholder Listening Session will help the HHS Office of Global Affairs prepare the U.S. delegation for the World Health Assembly by taking full advantage of the knowledge, ideas, feedback, and suggestions from communities that are interested in and may be affected by agenda items to be discussed at the 70th World Health Assembly. Your input will contribute to informing U.S. positions as we negotiate with our international colleagues at the World Health Assembly on these important health topics.

The listening session will be organized by agenda item, and participation is welcome from all individuals, particularly members of stakeholder communities, including the following:

• Public health and advocacy groups;

• State, local, and Tribal groups;

• Private industry;

• Minority health organizations; and

• Academic and scientific organizations.

All agenda items to be discussed at the 70th World Health Assembly can be found at this Web site: http://apps.who.int/gb/e/e_wha70.html.

RSVP: Due to security restrictions for entry into the HHS Hubert H. Humphrey Building, RSVPs are required for this event. Please send your full name and organization to OGA.RSVP@hhs.gov. If you are not a U.S. citizen, please note this in the subject line of your RSVP. Our office will contact you to gain additional biographical information required for your clearance. Photo identification for all attendees is required for building access without exception. Please RSVP no later than Thursday, April 27, 2017.

Written comments are welcome and encouraged, even if you are planning on attending in person. Please send your written comments to OGA.RSVP@hhs.gov.

We look forward to hearing your comments related to the 70th World Health Assembly agenda items.

Dated: April 14, 2017.
Mitchell Wolfe,
Acting Assistant Secretary for Global Affairs, Office of Global Affairs.

[FR Doc. 2017-08145 Filed 4-21-17; 8:45 am]

BILLING CODE 4150-38-P